DEPARTMENT OF ENERGY

Office of Energy Efficiency and Renewable Energy

Guidance Surrounding Department of Energy Support of Building Energy Code Compliance Software

AGENCY: Office of Energy Efficiency and Renewable Energy, Department of Energy.

ACTION: Notice of availability.

SUMMARY: The U.S. Department of Energy (DOE) Building Energy Codes Program has made available guidance on how it intends to respond to requests for modified versions of energy code compliance software.

FOR FURTHER INFORMATION CONTACT: Jeremiah Williams, U.S. Department of Energy, Office of Energy Efficiency and Renewable Energy, Building Technologies Office, Mailstop EE-5B, 1000 Independence Ave. SW., Washington, DC 20585-0121, Telephone: (202) 287-1941, Email: jeremiah.williams@ee.doe.gov.

Daniel Cohen, U.S. Department of Energy, Office of the General Counsel, Forrestal Building, Mailstop GC-71, 1000 Independence Ave. SW., Washington, DC 20585, Telephone: (202) 586-9523, Email: daniel.cohen@hq.doe.gov.

ADDRESSES: The guidance described in this notice is also posted at http://www.energycodes.gov/compliance/tools.

SUPPLEMENTARY INFORMATION:

Priorities for REScheck and COMcheck Support

The Energy Conservation and Production Act, as amended, directs the United States Department of Energy (DOE) to provide technical assistance “to improve and implement State residential and commercial building energy efficiency codes” (42 U.S.C. 6833(d) and (e)). As part of this directive, to accelerate national code adoption and compliance, DOE's Building Energy Codes Program provides residential (REScheck) and commercial (COMcheck) energy code compliance software to the building industry and local building jurisdictions, available as free downloads at energycodes.gov. DOE creates a new version of REScheck each time a new edition of the International Energy Conservation Code (IECC) is published and a new version of COMcheck each time that a new edition of ANSI/ASHRAE/IES Standard 90.1 is published. DOE also releases regular updates of REScheck and COMcheck for maintenance and enhancement.

The IECC and ASHRAE 90.1, respectively, are typically referred to as the national model codes, as they are referenced specifically in federal statute (42 U.S.C. 6833(d) and (e)). Because many states adopt both the residential and commercial provisions of the IECC, and the IECC commercial provisions formally reference Standard 90.1 as alternative compliance path, COMcheck is typically updated to accommodate both the commercial provisions of the IECC and Standard 90.1.

DOE has historically created a small number of custom versions of REScheck and COMcheck when requested by individual states which have adopted the national model codes with amendments. In recent years the number of these requests has increased to exceed available program resources. The following priorities provide internal consistency and transparency to the public regarding resources dedicated to REScheck and COMcheck.

1. Order of Priorities for Developing and Maintaining REScheck and COMcheck Versions

(a) Current version of national model codes as published.

(b) State or local codes that are based on the current version of the national model codes with amendments that increase energy savings. Within this category, further delineations may be made based on the number and complexity of amendments. Energy saving amendments that have the potential to be incorporated into other state or national codes will generally take priority.

(c) Current versions of state or local codes not based on or fundamentally diverging from the model codes with energy savings equal to or greater than the current national model code.

Note that category (a) will be created automatically by DOE each time a new national model code is published. Creation of versions under categories (b) and (c) will only be considered when requested by states.

For (b) and (c), funds may be prioritized for states that have historically used fewer program resources. Also, maximum funding limits may be established for individual state requests based on the total budget available and the number of requests received. Amounts above the maximum would need to be paid for with state-provided funding.

DOE will not provide a custom version of REScheck or COMcheck for State or local codes that provide less energy savings than the current versions of the national model codes.

2. Duration of Support for REScheck and COMcheck Versions

DOE will maintain on its Web site REScheck and COMcheck versions based on the current model code and the two previous versions of the model code. Versions older than these will be removed from the Web site and DOE will inform the users prior to the removal. Upon request, any older versions that are removed may be made available to states or other code organizations that wish to maintain them on non-DOE Web sites.

If you have any questions please contact the DOE Building Energy Codes Program as identified above, or visit http://www.energycodes.gov/resource-center/help-desk.

Issued in Washington, DC on March 11, 2014.
Jeremiah Williams,
Acting, Program Manager, Building Codes, Building Technologies Office.

[FR Doc. 2014-05952 Filed 3-17-14; 8:45 am]

BILLING CODE 6450-01-P